COMMISSION ON CIVIL RIGHTS

Notice of Public Meeting of the Arizona Advisory Committee

AGENCY: U.S. Commission on Civil Rights.

ACTION: Announcement of public meeting on voting rights in Arizona.

SUMMARY: Notice is hereby given, pursuant to the provisions of the rules and regulations of the U.S. Commission on Civil Rights (Commission) and the Federal Advisory Committee Act (FACA) that a meeting of the Arizona Advisory Committee (Committee) to the Commission will be held at 9:00 a.m. to 5:00 p.m. (Mountain Time) Friday, March 9, 2018. The purpose of the briefing is for the Committee to receive testimony regarding potential barriers to voting such as language access, access to the polls, early voting, and voter registration that may have a disparate impact on voters on the basis of race, color, religion, sex, age, disability, or national origin.

DATES: The meeting will be held on Friday, March 9, 2018 at 9:00 a.m. to 5:00 p.m. MT.

Location: Sandra Day O'Connor College of Law; Fifth Floor Conference Center, 111 E. Taylor Street, Phoenix, AZ 85004.

Public Call Information: Dial: 888-576-4387; Conference ID: 4884905.

FOR FURTHER INFORMATION CONTACT: Ana Victoria Fortes (DFO) at afortes@usccr.gov or (213) 894-3437.

SUPPLEMENTARY INFORMATION: This meeting is available to the public through the following toll-free call-in number: 888-576-4387, conference ID number: 4884905. Any interested member of the public may call this number and listen to the meetings. Callers can expect to incur charges for calls they initiate over wireless lines, and the Commission will not refund any incurred charges. Callers will incur no charge for calls they initiate over land-line connections to the toll-free telephone number. Persons with hearing impairments may also follow the proceedings by first calling the Federal Relay Service at 1-800-877-8339 and providing the Service with the conference call number and conference ID number.

Members of the public are entitled to make comments during the open period at the end of the meetings. Members of the public may also submit written comments; the comments must be received in the Regional Programs Unit within 30 days following the meeting. Written comments may be mailed to the Western Regional Office, U.S. Commission on Civil Rights, 300 North Los Angeles Street, Suite 2010, Los Angeles, CA 90012. They may be faxed to the Commission at (213) 894-0508, or emailed Ana Victoria Fortes at afortes@usccr.gov. Persons who desire additional information may contact the Regional Programs Unit at (213) 894-3437.

Records and documents discussed during the meeting will be available for public viewing prior to and after the meetings at https://facadatabase.gov/committee/meetings.aspx?cid=235.

Please click on the “Meeting Details” and “Documents” links. Records generated from these meetings may also be inspected and reproduced at the Regional Programs Unit, as they become available, both before and after the meetings. Persons interested in the work of this Committee are directed to the Commission's website, https://www.usccr.gov, or may contact the Regional Programs Unit at the above email or street address.

Agenda

I. Opening Remarks and Introductions (9:00-9:15 a.m.)

II. Government and Election Officials (9:15-10:30 a.m.)

Eric Spencer, Election Director, State of Arizona

Patty Hansen, Recorder, Coconino County Recorder's Office

Adrian Fontes, Recorder, Maricopa County Recorder's Office

Lisa Marra, Elections Director, Cochise County

III. Advocacy Organizations (10:40-11:45 a.m.)

Walt Opaska, Member, Arizona Republican Lawyers Association

Renaldo Fowler, Senior Staff Advocate, Arizona Center for Disability Law

Joel Edman, Executive Director, Arizona Advocacy Network

Darrell Hill, Attorney, ACLU of Arizona

IV. Election and Voting Experts (1:30-2:50 p.m.)

Mary O'Grady, Staff Attorney, Osborn Maledon

Timothy La Sota, Attorney, Timothy La Sota PLC

Travis Lane, Assistant Director, Inter Tribal Council of Arizona

Sarah Gonski, Political Law Associate, Perkins Coie

Joseph Garcia, Director of the Latino Public Policy Center, Morrison Institute at Arizona State University

V. Voter Perspectives (3:00-4:00 p.m.)

Eric Sainz, Arizona State Director, Mi Familia Vota

Robyn Prud'homme-Bauer, Co-President, League of Women Voters

Juliana Huereña, Operations Manager, Southwestern Institute for Families and Children, co-presenting with John Britton, Member

Gina Roberts, Arizona Clean Elections Commission

VI. Open Forum (4:00-4:50 p.m.)

VII. Closing Remarks (4:50-5:00 p.m.)

Dated: February 16, 2018.
David Mussatt,
Supervisory Chief, Regional Programs Unit.

[FR Doc. 2018-03705 Filed 2-22-18; 8:45 am]

BILLING CODE P